SECURITIES AND EXCHANGE COMMISSION

[Release No. 34-99445; File No. SR-CboeBZX-2023-058]

Self-Regulatory Organizations; Cboe BZX Exchange, Inc.; Notice of Withdrawal of a Proposed Rule Change To List and Trade Shares of the Global X Bitcoin Trust Under BZX Rule 14.11(e)(4), Commodity-Based Trust Shares

January 30, 2024.

On August 4, 2023, Cboe BZX Exchange, Inc. (“BZX” or “Exchange”) filed with the Securities and Exchange Commission (“Commission”), pursuant to section 19(b)(1) of the Securities Exchange Act of 1934 (“Act”) ¹ and Rule 19b-4 thereunder,² a proposed rule change to list and trade shares of the Global X Bitcoin Trust under BZX Rule 14.11(e)(4), Commodity-Based Trust Shares. The proposed rule change was published for comment in the Federal Register on August 23, 2023.³ On September 26, 2023, the Commission designated a longer period for Commission action on the proposed rule change.⁴ On November 17, 2023, the Commission instituted proceedings under section 19(b)(2)(B) of the Act ⁵ to determine whether to approve or disapprove the proposed rule change.⁶

¹ 15 U.S.C. 78s(b)(1).

² 17 CFR 240.19b-4.

³ See Securities Exchange Act Release No. 98156 (Aug. 17, 2023), 88 FR 57490. Comments on the proposed rule change are available at: https://www.sec.gov/comments/sr-cboebzx-2023-058/srcboebzx2023058.htm.

⁴ See Securities Exchange Act Release No. 98531, 88 FR 67829 (Oct. 2, 2023).

⁵ 15 U.S.C. 78s(b)(2)(B).

⁶ See Securities Exchange Act Release No. 98981, 88 FR 82439 (Nov. 24, 2023).

On January 26, 2024, the Exchange withdrew the proposed rule change (File No. SR-CboeBZX-2023-058).

For the Commission, by the Division of Trading and Markets, pursuant to delegated authority.⁷
⁷ 17 CFR 200.30-3(a)(12).
Sherry R. Haywood,
Assistant Secretary.

[FR Doc. 2024-02157 Filed 2-2-24; 8:45 am]

BILLING CODE 8011-01-P